Proclamation 9819 of October 31, 2018

National Veterans and Military Families Month, 2018

By the President of the United States of America

A Proclamation

During National Veterans and Military Families Month, we salute the brave and dedicated patriots who have worn the uniform of the United States, and we celebrate the extraordinary military families whose selfless service and sacrifice make our military the finest in the world.

Our Nation's veterans represent the best of America. Generation after generation, men and women have answered the call to defend our country and our freedom, facing danger and uncertainty with uncommon courage. They make tremendous sacrifices by leaving their families to serve throughout the homeland and in combat, contingency, and humanitarian operations worldwide.

Our heroes have always relied on their families for strength and support. Serving alongside our men and women in uniform are spouses, siblings, parents, and children who personify the ideals of patriotism, pride, resilience, service above self, and honor. They endure the hardships and uncertainty of multiple relocations, extended trainings, and deployments because of their admirable devotion to our country and a loved one in uniform.

President Ronald Reagan said, “America's debt to those who would fight for her defense doesn't end the day the uniform comes off.” Our Nation's veterans fulfilled their duty to this country with brave and loyal service; it is our moral and solemn obligation to demonstrate to them our continuing gratitude, unwavering support, and meaningful encouragement.

I am steadfastly committed to ensuring our veterans and their families receive the care and support they deserve. I was pleased to sign into law the landmark VA MISSION Act of 2018, which revolutionizes the way veterans receive healthcare and other services vital to their lives. The Department of Veterans Affairs is continuing to raise its standard of service, including through the establishment of the first national center of excellence for veteran and caregiver research, which will improve services and outcomes for patients and their families. I have also mandated greater collaboration across the Government to support veterans transitioning to civilian life. Additionally, Second Lady Karen Pence and I have collaborated on ways to elevate the career and educational opportunities for military spouses and children in partnership with State, local, and tribal officials.

It is most appropriate that in this season of gratitude we stop to recognize veterans, military families, and those who gave their lives in service to this great Nation. We are indebted to these heroes for the freedoms we enjoy every day. I ask all Americans to join me in offering our sincere thanks to our veterans and the families who love and support them.

NOW, THEREFORE, I, DONALD J. TRUMP, President of the United States of America, by virtue of the authority vested in me by the Constitution and the laws of the United States, do hereby proclaim November 2018 as National Veterans and Military Families Month. I encourage all communities, all sectors of society, and all Americans to acknowledge and honor the service, sacrifices, and contributions of veterans and military families for what they have done and for what they do every day to support our great Nation.

IN WITNESS WHEREOF, I have hereunto set my hand this thirty-first day of October, in the year of our Lord two thousand eighteen, and of the Independence of the United States of America the two hundred and forty-third.

[FR Doc. 2018-24364

Filed 11-5-18; 8:45 am]

Billing code 3295-F9-P